NUCLEAR REGULATORY COMMISSION

[Docket No. 040-08940; NRC-2009-0113]

Notice of Availability of Environmental Assessment and Finding of No Significant Impact for License Amendment to Source Materials License No. STB-1504, for Termination of the License and Unrestricted Release of the Alpha Q, Incorporated Facility in Colchester, CT

AGENCY: Nuclear Regulatory Commission.

ACTION: Issuance of Environmental Assessment and Finding of No Significant Impact for License Amendment.

FOR FURTHER INFORMATION CONTACT: Todd Jackson, CHP, Commercial and R & D Branch, Division of Nuclear Materials Safety, Region I, 475 Allendale Road, King of Prussia, PA, 19406; telephone (610) 337-5308; fax number (610) 337-5269; or by e-mail: Todd.Jackson@nrc.gov.

SUPPLEMENTARY INFORMATION:

I. Introduction

The U.S. Nuclear Regulatory Commission (NRC) is considering the issuance of a license amendment to Source Materials License No. STB-1504. This license is held by Alpha Q, Inc. (the Licensee) for its facility located at Colchester Industrial Park, 87 Upton Road, Colchester, Connecticut (the Facility). Issuance of the amendment would authorize release of the facility for unrestricted use and termination of the NRC license. The Licensee requested this action in a letter dated November 20, 2008. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's November 20, 2008, license amendment request, resulting in release of the Facility for unrestricted use and the termination of its NRC materials license. License No. STB-1504 was issued on April 21, 1987, pursuant to 10 CFR Part 40, and has been amended periodically since that time. This license authorized the Licensee to possess, store, and use thorium in precision machining of magnesium-thorium castings, and chemical treatment of filings.

The Facility is comprised of a building approximately 35,000 square feet in size, consisting of office space and machine shops situated on approximately 10 acres of land. The Facility is located in a commercial area within the town of Colchester, New London County, Connecticut. Within the Facility, use of licensed materials was confined to machining areas of approximately 28,500 square feet.

In August 2001, the Licensee ceased licensed activities and subsequently initiated a survey of the Facility. A final survey, designed using the guidance contained in the Multi-Agency Radiation Survey and Site Investigation Manual (MARSSIM), was conducted on August 26 and 29, 2008. Based on the Licensee's historical knowledge of the site and the conditions of the Facility, the Licensee determined that only routine decontamination activities, in accordance with their NRC-approved operating radiation safety procedures, were required after licensed activities were stopped. The Licensee was not required to submit a decommissioning plan to the NRC because cleanup activities and procedures are consistent with those approved for routine operations. The Licensee conducted surveys of the Facility and provided information in a letter to the NRC, dated November 20, 2008, to demonstrate that it meets the criteria in Subpart E of 10 CFR Part 20 for unrestricted release and for license termination.

Need for the Proposed Action

The Licensee has ceased conducting licensed activities at the Facility and seeks the unrestricted use of its Facility and the termination of its NRC materials license. Termination of its license would end the Licensee's obligation to pay annual license fees to the NRC.

Environmental Impacts of the Proposed Action

The historical review of licensed activities conducted at the Facility shows that such activities involved machining of castings made of thorium-magnesium metal, as well as activities related to handling of the turnings (waste fragments) from machining. Thorium is a radioactive material with half-life greater than 120 days. Prior to performing the final status survey, the Licensee conducted decontamination activities, as necessary, in the areas of the Facility affected by this radionuclide.

The Licensee conducted a final status survey on August 26 and 29, 2008. The NRC inspected the Facility on August 26, 2008, and observed portions of the final status survey while in progress (ML090200015). The final status survey covered the 28,500 square feet of machining areas in the building where licensed materials may have been used. In addition, the licensee surveyed outside waste storage areas of the facility where containers that may have held licensed materials were temporarily stored. Waste materials generated from licensed activities had previously been disposed of by the Licensee. No airborne or liquid effluents containing licensed materials were expected to have occurred from the Facility and review of records did not identify any such releases. The final status survey report was submitted to the NRC along with the Licensee's amendment request dated November 20, 2008 (ML083330496).

The Licensee elected to demonstrate compliance with the radiological criteria for unrestricted release as specified in 10 CFR 20.1402 by using a modified version of the screening approach described in NUREG-1757, “Consolidated NMSS Decommissioning Guidance,” Volume 2. The Licensee modified the radionuclide-specific derived concentration guideline levels (DCGLs), which comply with the dose criterion in 10 CFR 20.1402. The sole modification to these screening criteria for thorium-232 plus progeny in equilibrium consisted of a change to the resuspension factor (RFo*) in the DandD computer code to a value of 1.00E-6, which was approved in advance by NRC as an acceptable change to the default screening approach (ML081710745). The thorium-232 DCGL defines the maximum amount of residual radioactivity on building surfaces, equipment, and materials that will satisfy the NRC requirements in Subpart E of 10 CFR Part 20 for unrestricted release. The Licensee's final status survey results were less than the DCGL and are in compliance with the As Low As Reasonably Achievable (ALARA) requirement of 10 CFR 20.1402.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material at the Facility. The NRC staff reviewed the docket file records and the final status survey report to identify any non-radiological hazards that may have impacted the environment surrounding the Facility. No such hazards or impacts to the environment were identified. The NRC has identified no other radiological or non-radiological activities in the area that could result in cumulative environmental impacts.

The NRC staff finds that the proposed release of the Facility for unrestricted use and the termination of the NRC materials license is in compliance with 10 CFR 20.1402. Based on its review, the staff considered the impact of the residual radioactivity at the Facility and concluded that the proposed action will not have a significant effect on the quality of the human environment. The NRC thus finds that the Licensee's final status survey results are acceptable to support free release of the Facility for unrestricted use and for termination of the NRC license.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 40.42(d), requiring that decommissioning of source material facilities be completed and approved by the NRC after licensed activities cease. The NRC's analysis of the Licensee's final status survey data confirmed that the Facility meets the requirements of 10 CFR 20.1402 for unrestricted release and for license termination. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the Connecticut Department of Environmental Protection for review on January 22, 2009. On February 17, 2009, the Connecticut Department of Environmental Protection responded. The Connecticut Department of Environmental Protection agreed with the conclusions of the EA and otherwise had no comments.

The NRC staff has determined that the proposed action is of a procedural nature and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Letter from Alpha Q to NRC dated April 21, 2008, submitting a proposed final site status survey plan (ML081350674);

2. Letter from NRC to Alpha Q dated June 19, 2008, approving a modification to the default DCGLs and requesting additional information regarding the proposed final survey plan (ML081710745);

3. Letter from Alpha Q to NRC dated June 30, 2008, providing additional information regarding the proposed final status survey plan (ML082000589);

4. Letter from NRC to Alpha Q approving final survey plan, dated July 11, 2008 (ML081960062);

5. Letter from Alpha Q to NRC submitting final survey results and requesting license termination, dated November 20, 2008 (ML083330496);

6. NRC Inspection Record dated January 9, 2009 (ML090200015);

7. NUREG-1757, “Consolidated NMSS Decommissioning Guidance;”

8. Title 10 Code of Federal Regulations, Part 20, Subpart E, “Radiological Criteria for License Termination;”

9. Title 10, Code of Federal Regulations, Part 51, “Environmental Protection Regulations for Domestic Licensing and Related Regulatory Functions;” and

10. NUREG-1496, “Generic Environmental Impact Statement in Support of Rulemaking on Radiological Criteria for License Termination of NRC-Licensed Nuclear Facilities.”

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Region I, 475 Allendale Road, King of Prussia, PA this 6th day of March 2009.
For the Nuclear Regulatory Commission.
James P. Dwyer,
Chief, Commercial and R&D Branch, Division of Nuclear Materials Safety, Region I.

[FR Doc. E9-5601 Filed 3-13-09; 8:45 am]

BILLING CODE 7590-01-P